DEPARTMENT OF THE INTERIOR

National Park Service

Notice of Inventory Completion: University of Colorado Museum, Boulder, CO

AGENCY: National Park Service, Interior.

ACTION: Notice.

Notice is here given in accordance with the Native American Graves Protection and Repatriation Act (NAGPRA), 25 U.S.C. 3003, of the completion of an inventory of human remains in the possession of the University of Colorado Museum, Boulder, CO. The human remains were removed from an unknown location.

This notice is published as part of the National Park Service's administrative responsibilities under NAGPRA, 25 U.S.C. 3003 (d)(3). The determinations in this notice are the sole responsibility of the museum, institution, or Federal agency that has control of the Native American human remains. The National Park Service is not responsible for the determinations in this notice.

A detailed assessment of the human remains was made by University of Colorado Museum professional staff in consultation with representatives of the Pawnee Nation of Oklahoma and Three Affiliated Tribes of the Fort Berthold Reservation, North Dakota.

On an unknown date, human remains representing a minimum of one individual were removed from an unknown location, by an unknown individual. The human remains were donated to the University of Colorado Museum by an anonymous donor. Based on the sequence of the catalog number (Catalog number 06498), the human remains were cataloged between 1947 and 1948. No known individual was identified. No associated funerary objects are present.

Based on the morphology of the teeth and mandible, the human remains represent a Native American adult female. The entry in the original museum ledger states, “Jaw (lower) of Arikara Indian.”

Arikara and Pawnee ancestors have been identified archeologically as the Upper Republican phase of the Central Plains Village tradition in Kansas and Nebraska. Both groups lived in earthen lodges in compact villages that were sometimes fortified. They were separate bands of Caddoan speakers living together, but spoke distinct Caddoan dialects, until just prior to European contact, when the Arikara moved north. Today the Arikara live in North Dakota, where they settled on a reservation with the Sioux-speaking Mandan and Hidatsa, and are federally recognized as the Three Affiliated Tribes of the Fort Berthold Reservation, North Dakota. The Pawnee Nation resides in north-central Oklahoma, where they were given land in 1876 in exchange for ceding much of Nebraska. Officials of the University of Colorado Museum based on the preponderance of the evidence, including museum records, reasonably believes the human remains are Arikara or Pawnee. Descendants of the Arikara are members of the Three Affiliated Tribes of the Fort Berthold Reservation, North Dakota. Descendants of the Pawnee are members of the Pawnee Nation of Oklahoma.

Officials of the University of Colorado Museum have determined that, pursuant to 25 U.S.C. 3001 (9-10), the human remains described above represent the physical remains of one individual of Native American ancestry. Officials of the University of Colorado Museum also have determined that, pursuant to 25 U.S.C. 3001 (2), there is a relationship of shared group identity that can be reasonably traced between the Native American human remains and the Pawnee Nation of Oklahoma and Three Affiliated Tribes of the Fort Berthold Reservation, North Dakota.

Representatives of any other Indian tribe that believes itself to be culturally affiliated with the human remains should contact Steve Lekson, Curator of Anthropology, University of Colorado Museum, Henderson Building, Campus Box 218, Boulder, CO 80309-0218, telephone (303) 492-6671, before July 5, 2007. Repatriation of the human remains to the Three Affiliated Tribes of the Fort Berthold Reservation may proceed after that date if no additional claimants come forward.

The University of Colorado Museum is responsible for notifying the Pawnee Nation of Oklahoma and Three Affiliated Tribes of the Fort Berthold Reservation, North Dakota that this notice has been published.

Dated: May 4, 2007
Sherry Hutt,
Manager, National NAGPRA Program.

[FR Doc. E7-10716 Filed 6-1-07; 8:45 am]

BILLING CODE 4312-50-S